DEPARTMENT OF TRANSPORTATION

Federal Aviation Administration

14 CFR Part 97

[Docket No. 30731 ; Amdt. No. 3380]

Standard Instrument Approach Procedures, and Takeoff Minimums and Obstacle Departure Procedures; Miscellaneous Amendments

AGENCY: Federal Aviation Administration (FAA), DOT.

ACTION: Final Rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 8, 2010. The compliance date for each SIAP, associated Takeoff Minimums, and ODP is specified in the amendatory provisions.

The incorporation by reference of certain publications listed in the regulations is approved by the Director of the Federal Register as of July 8, 2010.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26,1979); and (3)does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on June 25, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 29 JUL 2010

Anchorage, AK, Ted Stevens Anchorage Intl, ILS OR LOC/DME RWY 7L, ILS RWY 7L (CAT II), Amdt 1

Jackson, AL, Jackson Muni, RNAV (GPS) RWY 1, Orig

Jackson, AL, Jackson Muni, RNAV (GPS) RWY 19, Orig

Troy, AL, Troy Muni, ILS OR LOC RWY 7, Amdt 9

Troy, AL, Troy Muni, RNAV (GPS) RWY 7, Amdt 1

Troy, AL, Troy Muni, RNAV (GPS) RWY 25, Amdt 1

Vernon, AL, Lamar County, RNAV (GPS) RWY 17, Orig

Vernon, AL, Lamar County, RNAV (GPS) RWY 35, Orig

Vernon, AL, Lamar County, VOR/DME-A, Amdt 3

Blytheville, AR, Arkansas Intl, ILS OR LOC/DME RWY 18, Amdt 1

Blytheville, AR, Arkansas Intl, RNAV (GPS) RWY 18, Amdt 2

Blytheville, AR, Arkansas Intl, RNAV (GPS) RWY 36, Amdt 2

Carlisle, AR, Carlisle Muni, RNAV (GPS) RWY 9, Amdt 1

Marianna, AR, Marianna/Lee County-Steve Edwards Field, RNAV (GPS) RWY 18, Orig

Marianna, AR, Marianna/Lee County-Steve Edwards Field, RNAV (GPS) RWY 36, Orig

Marianna, AR, Marianna/Lee County-Steve Edwards Field, Takeoff Minimums and Obstacle DP, Orig

Bakersfield, CA, Meadows Field, ILS OR LOC/DME RWY 30R, Amdt 30

Bakersfield, CA, Meadows Field, RNAV (GPS) RWY 12L, Amdt 1

Bakersfield, CA, Meadows Field, RNAV (GPS) RWY 30R, Amdt 1

Daggett, CA, Barstow-Daggett, RNAV (GPS) RWY 22, Amdt 2

Daggett, CA, Barstow-Daggett, RNAV (GPS) RWY 26, Amdt 2

Daggett, CA, Barstow-Daggett, Takeoff Minimums and Obstacle DP, Amdt 3

Daggett, CA, Barstow-Daggett, VOR OR TACAN RWY 22, Amdt 10

San Jose, CA, Reid-Hillview of Santa Clara, RNAV (GPS) RWY 13L, Orig

San Jose, CA, Reid-Hillview of Santa Clara, RNAV (GPS) Y RWY 31R, Orig

San Jose, CA, Reid-Hillview of Santa Clara, RNAV (GPS) Z RWY 31R, Amdt 1

Tulare, CA, Mefford Field, RNAV (GPS) RWY 13, Orig

Tulare, CA, Mefford Field, VOR/DME RWY 13, Amdt 1

Longmont, CO, Vance Brand, RNAV (GPS) RWY 29, Amdt 1

Washington, DC, Washington Dulles Intl, ILS OR LOC RWY 19L, Amdt 15

Washington, DC, Washington Dulles Intl, ILS OR LOC/DME RWY 1C, Amdt 2

Marianna, FL, Marianna Muni, GPS RWY 18, Amdt 1, CANCELLED

Marianna, FL, Marianna Muni, NDB-C, Amdt 4

Marianna, FL, Marianna Muni, RNAV (GPS) RWY 18, Orig

Marianna, FL, Marianna Muni, VOR-A, Amdt 12

Marianna, FL, Marianna Muni, VOR-B, Amdt 5

Titusville, FL, NASA Shuttle Landing Facility, RNAV (GPS) RWY 15, Orig

Titusville, FL, NASA Shuttle Landing Facility, RNAV (GPS) RWY 33, Orig

Titusville, FL, NASA Shuttle Landing Facility, TACAN RWY 15, Orig

Titusville, FL, NASA Shuttle Landing Facility, TACAN RWY 33, Orig

Titusville, FL, NASA Shuttle Landing Facility, Takeoff Minimums and Obstacle DP, Amdt 1

Homerville, GA, Homerville, NDB RWY 14, Amdt 2

Homerville, GA, Homerville, RNAV (GPS) RWY 14, Orig

Homerville, GA, Homerville, RNAV (GPS) RWY 32, Orig

Homerville, GA, Homerville, Takeoff Minimums and Obstacle DP, Orig

Homerville, GA, Homerville, VOR/DME-A, Amdt 4

McRae, GA, Telfair-Wheeler, RNAV (GPS) RWY 21, Amdt 1

McRae, GA, Telfair-Wheeler, Takeoff Minimums and Obstacle DP, Amdt 1

Honolulu, HI, Honolulu Intl, LOC RWY 8L, Orig-A

Council Bluffs, IA, Council Bluffs Muni, RNAV (GPS) RWY 14, Amdt 2

Council Bluffs, IA, Council Bluffs Muni, RNAV (GPS) RWY 36, Amdt 1

Casey, IL, Casey Muni, GPS RWY 22, Orig-A, CANCELLED

Casey, IL, Casey Muni, NDB RWY 4, Amdt 8

Casey, IL, Casey Muni, NDB RWY 22, Amdt 5

Casey, IL, Casey Muni, RNAV (GPS) RWY 4, Orig

Casey, IL, Casey Muni, RNAV (GPS) RWY 22, Orig

Chicago, IL, Chicago-O'Hare Intl, ILS OR LOC RWY 32L, Amdt 2B, CANCELLED

Chicago, IL, Chicago-O'Hare Intl, RNAV (GPS) RWY 14R, Amdt 2

Chicago, IL, Chicago-O'Hare Intl, RNAV (GPS) RWY 32L, Amdt 2C, CANCELLED

Chicago, IL, Chicago-O'Hare Intl, Takeoff Minimums and Obstacle DP, Amdt 17

Chicago/Romeoville, IL, Lewis University, RNAV (GPS) RWY 2, Amdt 2

Kokomo, IN, Kokomo Muni, ILS OR LOC RWY 23, Amdt 9

Kokomo, IN, Kokomo Muni, RNAV (GPS) RWY 5, Orig

Kokomo, IN, Kokomo Muni, RNAV (GPS) RWY 23, Orig

Kokomo, IN, Kokomo Muni, Takeoff Minimums and Obstacle DP, Orig

Kokomo, IN, Kokomo Muni, VOR RWY 23, Amdt 20

Kokomo, IN, Kokomo Muni, VOR RWY 32, Amdt 20

Kokomo, IN, Kokomo Muni, VOR/DME RNAV OR GPS RWY 5, Amdt 5A, CANCELLED

Atwood, KS, Atwood-Rawlins County City-County, NDB RWY 16, Amdt 2

Atwood, KS, Atwood-Rawlins County City-County, RNAV (GPS) RWY 16, Orig

Coffeyville, KS, Coffeyville Muni, Takeoff Minimums and Obstacle DP, Amdt 1

Georgetown, KY, Georgetown Scott County-Marshall Fld,, RNAV (GPS) RWY 3, Amdt 2

Georgetown, KY, Georgetown Scott County-Marshall Fld, RNAV (GPS) Y RWY 21, Orig

Georgetown, KY, Georgetown Scott County-Marshall Fld, RNAV (GPS) Z RWY 21, Amdt 2

Richmond, KY, Madison, RNAV (GPS) RWY 18, Orig

Richmond, KY, Madison, RNAV (GPS) RWY 36, Orig

Richmond, KY, Madison, Takeoff Minimums and Obstacle DP, Orig

Richmond, KY, Madison, VOR/DME RWY 18, Amdt 6

Richmond, KY, Madison, VOR/DME RNAV OR GPS RWY 36, Amdt 6, CANCELLED

Gardner, MA, Gardner Muni, RNAV (GPS)-B, Orig

Gardner, MA, Gardner Muni, VOR-A, Amdt 6

Pittsfield, MA, Pittsfield Muni, LOC RWY 26, Amdt 8

Biddeford, ME, Biddeford Muni, GPS RWY 6, Orig-A, CANCELLED

Biddeford, ME, Biddeford Muni, RNAV (GPS) RWY 6, Orig

Dowagiac, MI, Dowagiac Muni, RNAV (GPS) RWY 9, Orig

Dowagiac, MI, Dowagiac Muni, RNAV (GPS) RWY 27, Orig

Dowagiac, MI, Dowagiac Muni, VOR-A, Amdt 10

Dowagiac, MI, Dowagiac Muni, VOR/DME RNAV OR GPS RWY 27, Amdt 6, CANCELLED

Drummond Island, MI, Drummond Island, GPS RWY 8, Orig, CANCELLED

Drummond Island, MI, Drummond Island, GPS RWY 26, Orig, CANCELLED

Drummond Island, MI, Drummond Island, RNAV (GPS) RWY 8, Orig

Drummond Island, MI, Drummond Island, RNAV (GPS) RWY 26, Orig

Grayling, MI, Grayling AAF, VOR RWY 14, Amdt 2

Lansing, MI, Capital Region Intl, RNAV (GPS) RWY 6, Orig

Lansing, MI, Capital Region Intl, VOR RWY 6, Amdt 25

Newberry, MI, Luce County, RNAV (GPS) RWY 11, Orig

Newberry, MI, Luce County, RNAV (GPS) RWY 29, Orig

Newberry, MI, Luce County, VOR RWY 11, Amdt 12

Newberry, MI, Luce County, VOR RWY 29, Amdt 12

Valley City, ND, Barnes County Muni, RNAV (GPS) RWY 13, Orig

Valley City, ND, Barnes County Muni, RNAV (GPS) RWY 31, Orig

Las Vegas, NV, McCarran Intl, Takeoff Minimums and Obstacle DP, Amdt 6

Reno, NV, Reno/Stead, RNAV (GPS) RWY 32, Amdt 1

Hamilton, NY, Hamilton Muni, RNAV (GPS) RWY 35, Orig

Ithaca, NY, Ithaca Tompkins Rgnl, ILS OR LOC RWY 32, Amdt 6

Ithaca, NY, Ithaca Tompkins Rgnl, RNAV (GPS) RWY 32, Orig

Shawnee, OK, Shawnee Rgnl, RNAV (GPS) RWY 35, Orig

Barnwell, SC, Barnwell Rgnl, RNAV (GPS) RWY 17, Amdt 2

Austin, TX, Austin Executive, RNAV (GPS) RWY 13, Orig

Austin, TX, Austin Executive, RNAV (GPS) RWY 31, Orig

Austin, TX, Austin Executive, Takeoff Minimums and Obstacle DP, Orig

Henderson, TX, Rusk County, NDB-B, Amdt 1

Odessa, TX, Odessa-Schlemeyer Field, VOR-A, Amdt 7

Louisa, VA, Louisa County/Freeman Field, LOC/DME RWY 27, Amdt 3

Louisa, VA, Louisa County/Freeman Field, RNAV (GPS) RWY 27, Amdt 1

Louisa, VA, Louisa County/Freeman Field, Takeoff Minimums and Obstacle DP, Amdt 1

East Troy, WI, East Troy Muni, Takeoff Minimums and Obstacle DP, Orig

On June 09, 2010 (75 FR 32654) the FAA published an Amendment in Docket No. 30727, Amdt 3376 to Part 97 of the Federal Aviation Regulations under section 97.23 and 97.33. The following entries, effective 29 July 2010, are hereby changed to be effective on 23 September 2010:

Marshalltown, IA, Marshalltown Muni, GPS RWY 12, Orig-B, CANCELLED

Marshalltown, IA, Marshalltown Muni, RNAV (GPS) RWY 13, Orig

Marshalltown, IA, Marshalltown Muni, RNAV (GPS) RWY 31, Orig

Marshalltown, IA, Marshalltown Muni, Takeoff Minimum and Obstacle DP, Orig

Marshalltown, IA, Marshalltown Muni, VOR RWY 13, Amdt 2

Marshalltown, IA, Marshalltown Muni, VOR RWY 31, Amdt 2

[FR Doc. 2010-16261 Filed 7-7-10; 8:45 am]

BILLING CODE 4910-13-P